DEPARTMENT OF LABOR

Occupational Safety and Health Administration

[Docket No. OSHA-2010-0007]

Nationally Recongized Testing Laboratory Program Regulation; Revision of the Office of Management and Budget's (OMB) Approval of Information Collection (Paperwork) Requirements

AGENCY: Occupational Safety and Health Administration (OSHA), Labor.

ACTION: Request for comments.

SUMMARY: OSHA requests comments concerning its proposed revision of the information collection requirements specified by its Program Regulation for Nationally Recognized Testing Laboratories, 29 CFR 1910.7 (the Regulation). The Regulation specifies procedures that organizations must follow to apply for, and to maintain, OSHA's recognition to test and certify equipment, products, or material for safe use in the workplace.

DATES: Submit comments, information, and documents in response to this notice, or requests for an extension of time to make a submission, on or before February 27, 2017.

ADDRESSES: Submit comments by any of the following methods:

Electronically: Submit comments and attachments electronically at http://www.regulations.gov, which is the Federal eRulemaking Portal. Follow the instructions online for making electronic submissions.

Facsimile: If submissions, including attachments, are not longer than 10 pages, commenters may fax them to the OSHA Docket Office at (202) 693-1648.

Regular or express mail, hand delivery, or messenger (courier) service: Submit a copy of comments and any attachments to the OSHA Docket Office, Docket No. OSHA-2010-0007, Technical Data Center, Room N-3508, U.S. Department of Labor, 200 Constitution Avenue NW., Washington, DC 20210; telephone: (202) 693-2350 (TDY number: (877) 889-5627). Note that security procedures may result in significant delays in receiving comments and other written materials by regular mail. Contact the OSHA Docket Office for information about security procedures concerning delivery of materials by express delivery, hand delivery, or messenger service. The hours of operation for the OSHA Docket Office are 10:00 a.m.—2:30 p.m., e.t.

Instructions: All submissions must include the Agency name and the OSHA docket number (OSHA-2010-0007). OSHA will place all submissions, including any personal information provided, in the public docket without revision, and these submissions will be available online at http://www.regulations.gov.

Docket: To read or download submissions or other material in the docket, go to http://www.regulations.gov or the OSHA Docket Office at the address above. All documents in the docket are listed in the http://www.regulations.gov index; however, some information (e.g., copyrighted material) is not publicly available to read or download through the Web site. All submissions, including copyrighted material, are available for inspection and copying at the OSHA Docket Office. Contact the OSHA Docket Office for assistance in locating docket submissions.

Extension of comment period: Submit requests for an extension of the comment period on or before February 27, 2017 to the Office of Technical Programs and Coordination Activities, Directorate of Technical Support and Emergency Management, Occupational Safety and Health Administration, U.S. Department of Labor, 200 Constitution Avenue NW., Room N-3655, Washington, DC 20210, or by fax to (202) 693-1644.

FOR FURTHER INFORMATION CONTACT: Theda Kenney (kenney.theda@dol.gov) or Todd Owen (owen.todd@dol.gov), Directorate of Standards and Guidance, OSHA, U.S. Department of Labor, 200 Constitution Avenue NW., Room N-3609, Washington, DC 20210; telephone (202) 693-2222.

SUPPLEMENTARY INFORMATION:

I. Background

The Department of Labor, as part of its continuing effort to reduce paperwork and respondent burden, conducts a preclearance consultation program to provide the public with an opportunity to comment on continuing information collection requirements in accordance with the Paperwork Reduction Act of 1995 (PRA-95) (44 U.S.C. 3506(c)(2)(A)). This program ensures that information is in the desired format, reporting burden (time and costs) is minimal, collection instruments are clearly understood, and OSHA's estimate of the information collection burden is accurate. The Occupational Safety and Health Act of 1970 (the OSH Act) (29 U.S.C. 651 et seq.) authorizes information collection from employers as necessary or appropriate for enforcement of the OSH Act or for developing information regarding the causes and prevention of occupational injuries, illnesses, and accidents (29 U.S.C. 657). The OSH Act also requires OSHA to obtain such information with minimum burden upon employers, especially those operating small businesses, and to reduce to the maximum extent feasible unnecessary duplication of efforts in obtaining information (29 U.S.C. 657).

A number of standards issued by OSHA contain requirements that specify employers use only equipment, products, or material tested or approved by a Nationally Recognized Testing Laboratory (NRTL). These requirements ensure that employers use safe and efficacious equipment, products, or materials in complying with the standards. Accordingly, OSHA promulgated its Program Regulation for Nationally Recognized Testing Laboratories, 29 CFR 1910.7 (the Regulation). The Regulation specifies procedures that organizations must follow to apply for, and to maintain, OSHA's recognition to test and certify equipment, products, or material for safe use in the workplace.

II. Special Issues for Comment

OSHA has a particular interest in comments on the following issues:

1. Whether the proposed information collection requirements are necessary and useful for the proper performance of the Agency's functions;

2. The accuracy of OSHA's estimate of the burden (time and costs) of the information collection requirements, including the validity of the methodology and assumptions used;

3. The quality, utility, and clarity of the information collected; and

4. Ways to minimize the burden on organizations that must comply; for example, by using automated or other technological information collection and transmission techniques.

III. Proposed Actions

OSHA proposes to revise the Office of Management and Budget's (OMB) approval of the collection of information requirements specified by the Regulation. In addition to extending its current approval by OMB, the Agency plans to implement a proposed fee schedule, see 80 FR 57222, Sept. 22, 2015. This proposed fee schedule would be based in part on proposed streamlined procedures for accepting and reviewing applications for NRTL recognition, expansion and renewal, and would contain revisions to the cost burden to respondents resulting from the collections of information required by the Regulation. The Agency also plans to obtain OMB approval for optional standardized forms to facilitate and simplify the information collection process as part of its information collection process. The optional forms correspond to the applications for initial, expansion of, and renewal of recognition procedures prescribed by the Regulation. Where practicable, the forms would provide for automations such as drop down lists to increase ease of use and reduce the information collection burden. The Agency expects the use of the optional standardized forms to marginally reduce the burden hours associated with these information collection requirements. The forms are included in a draft copy of the updated Directive on NRTL Program Policies, Procedures, and Guidelines, which has been attached to a Supporting Statement for the Information Collection Requirements of the Regulation. The Agency developed the Supporting Statement to outline the particulars of the collection of information proposed for approval by OMB. The Agency requests a $718,836 increase, resulting from a determination that the costs should be considered a cost to respondents rather than a cost to the Federal government, since respondents reimburse the Government for expenses related to this program. The Supporting Statement will be added to the docket (OSHA-2010-0007), and available at regulations.gov, once this Notice is published. The Agency will summarize the comments submitted in response to this Notice, and will include this summary in its request to OMB to revise the approval of these information collection requirements.

Type of Review: Revision of a currently approved information collection.

Title: Definition and Requirements of a Nationally Recognized Testing Laboratory (29 CFR 1910.7).

OMB Control Number: 1218-0147.

Affected Public: Business or other for-profit.

Number of Respondents: 20.

Frequency of Recordkeeping: On occasion.

Total Responses: 140.

Average Time per Response: 160 hours for initial recognition applications (3 responses per year); 10 hours for expansion of recognition applications, additional testing categories (5 responses per year); 24 hours for expansion of recognition applications, additional testing sites (2 responses per year); 5 hours for renewal of recognition applications (3 responses per year); .25 hours for electronic fee submission (63 responses per year); and 16 hours for assessments (57 responses per year).

Estimated Total Burden Hours: 1,523.

Estimated Cost (Operation and Maintenance): $718,836.

IV. Public Participation—Submission of Comments on this Notice and Internet Access to Comments and Submissions

You may submit comments in response to this document as follows: (1) Electronically in the Federal eRulemaking Portal at http://www.regulations.gov under Docket Number OSHA-2010-007; (2) by facsimile (FAX); or (3) by hard copy. For further information on submitting comments by facsimile or in hard copy, please see the section of this notice entitled ADDRESSES above. All comments, attachments, and other material must identify the Agency name and the OSHA docket number for the ICR (Docket No. OSHA-2010-0007). You may supplement electronic submissions by uploading document files electronically. If you wish to mail additional materials in reference to an electronic or facsimile submission, you must submit them to the OSHA Docket Office (see the section of this notice titled ADDRESSES). The additional materials must clearly identify your electronic comments by your name, date, and the docket number so the Agency can attach them to your comments.

Because of security procedures, the use of regular mail may cause a significant delay in the receipt of comments. For information about security procedures concerning the delivery of materials by hand, express delivery, messenger, or courier service, please contact the OSHA Docket Office at (202) 693-2350 (TTY (877) 889-5627).

Comments and submissions are posted without change at http://www.regulations.gov. Therefore, OSHA cautions commenters about submitting personal information such as social security numbers and date of birth. Although all submissions are listed in the http://www.regulations.gov index, some information (e.g., copyrighted material) is not publicly available to read or download through this Web site. All submissions, including copyrighted material, are available for inspection and copying at the OSHA Docket Office. Information on using the http://www.regulations.gov Web site to submit comments and access the docket is available at the Web site's “User Tips” link. Contact the OSHA Docket Office for information about materials not available through the Web site, and for assistance in using the Internet to locate docket submissions.

V. Authority and Signature

David Michaels, Ph.D., MPH, Assistant Secretary of Labor for Occupational Safety and Health, 200 Constitution Avenue NW., Washington, DC 20210, authorized the preparation of this notice. The Agency is issuing this notice pursuant to Section 8(g)(2) of the Occupational Safety and Health Act of 1970 (29 U.S.C. 657(g)(2)), Secretary of Labor's Order No. 1-2012 (77 FR 3912, Jan. 25, 2012), OSHA's Program Regulation for Nationally Recognized Testing Laboratories, 29 CFR 1910.7, and the Paperwork Reduction Act of 1995 (44 U.S.C 3506 et seq.).

Signed at Washington, DC, this 22nd day of December, 2016.
David Michaels,
Assistant Secretary of Labor for Occupational Safety and Health.

[FR Doc. 2016-31351 Filed 12-27-16; 8:45 am]

BILLING CODE 4510-26-P